DEPARTMENT OF COMMERCE

Foreign-Trade Zones Board

[B-18-2015]

Foreign-Trade Zone (FTZ) 202—Los Angeles, California; Authorization of Production Activity; syncreon Logistics (USA), LLC; (Camera and Accessories Kitting) Torrance, California

On March 27, 2015, syncreon Logistics (USA), LLC (syncreon) submitted a notification of proposed production activity, on behalf of GoPro, Inc., to the Foreign-Trade Zones (FTZ) Board for its facility within FTZ 202—Site 43, in Torrance, California.

The notification was processed in accordance with the regulations of the FTZ Board (15 CFR part 400), including notice in the Federal Register inviting public comment (80 FR 18807, 04-08-2015). The FTZ Board has determined that no further review of the activity is warranted at this time. The production activity described in the notification is authorized, subject to the FTZ Act and the Board's regulations, including Section 400.14.

Dated: July 24, 2015.
Andrew McGilvray,
Executive Secretary.

[FR Doc. 2015-18729 Filed 7-29-15; 8:45 am]

BILLING CODE 3510-DS-P